DEPARTMENT OF THE INTERIOR

Bureau of Land Management

[ID-070-1020-PG]

Upper Snake River District Resource Advisory council meeting

AGENCY: Bureau of Land Management, Interior.

ACTION: Upper Snake River District Resource Advisory Council Meeting: Location and Times.

SUMMARY: The next Upper Snake River District Resource Advisory Council (RAC) Meeting will be held on May 29, 2002, beginning at 1 p.m.; and May 30, 2002, beginning at 8 a.m. The meeting will be held at the Wood River Lodge, 391 2nd Avenue North, in Ketchum, Idaho.

FOR FURTHER INFORMATION CONTACT: David Howell at the Upper Snake River District Office, 1405 Hollipark Dr., Idaho Falls, ID 83401, or telephone (208) 524-7559.

SUPPLEMENTARY INFORMATION: The RAC meets in accordance with the Federal Land Policy and Management Act and the Federal Advisory Committee Act of 1972 (FACA), 5 U.S.C. All meetings are open to the public. Each formal council meeting has time allocated for hearing public comments, and the public may present written or oral comments. Individuals who plan to attend and need further information about the meetings, or need special assistance such as sign language interpretation or other reasonable accommodations, should contact the address below.

Dated: April 4, 2002.
LeRoy Cook,
Acting District Manager.

[FR Doc. 02-12582 Filed 5-17-02; 8:45 am]

BILLING CODE 4310-GG-P